FEDERAL COMMUNICATIONS COMMISSION

47 CFR Part 73

[DA 00-1755; MM Docket No. 00-24; RM-9781]

Radio Broadcasting Services; Red Lodge and Joliet, MT

AGENCY: Federal Communications Commission.

ACTION: Final rule.

SUMMARY: This document substitutes Channel 257C1 for Channel 257A at Red Lodge, MT, and modifies the license for Station KMXE-FM, to specify operation on Channel 257C1 in response to a petition filed by Silver Rock Communications, Inc. See 65 FR 10043, February 25, 2000.

The coordinates for Channel 257C1 at Red Lodge are 45-11-39 and 109-20-32.

To accommodate the substitution at Red Lodge, we shall also substitute Channel 292C3 for vacant Channel 259C3 at Joliet, Montana. The coordinates for Channel 292C3 are 45-29-06 and 108-58-18.

A filing window for Channel 292C3 at Joliet will not be opened at this time. Instead, the issue of opening a filing window for this channel will be addressed by the Commission in a subsequent order.

DATES: Effective September 18, 2000.

ADDRESSES: Federal Communications Commission, Washington, DC 20554.

FOR FURTHER INFORMATION CONTACT: Kathleen Scheuerle, Mass Media Bureau, (202) 418-2180.

SUPPLEMENTARY INFORMATION: This is a summary of the Commission's Report and Order, MM Docket No. 00-24, adopted July 26, 2000, and released August 4, 2000. The full text of this Commission decision is available for inspection and copying during normal business hours in the Commission's Reference Center, Washington, DC. The complete text of this decision may also be purchased from the Commission's copy contractors, International Transcription Services, Inc., 1231 20th Street, NW., Washington, DC 20036; (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Montana, is amended by removing Channel 257A and adding Channel 257C1 at Red Lodge and by removing Channel 259C3 and adding Channel 292C3 at Joliet.

Federal Communications Commission.
John A. Karousos,
Chief, Allocations Branch, Policy and Rules Division, Mass Media Bureau.

[FR Doc. 00-21400 Filed 8-22-00; 8:45 am]

BILLING CODE 6712-01-P